DEPARTMENT OF ENERGY

Federal Energy Regulatory Commission

[Docket No. CP00-125-000]

El Paso Natural Gas Company; Notice of Request Under Blanket Authorization

March 20, 2000.

Take notice that on March 15, 2000, El Paso Natural Gas Company (El Paso), Post Office Box 1492, El Paso, Texas 79987, filed a request with the Commission in Docket No. CP00-125-000, pursuant to Sections 157.216(b) of the Commission's Regulations under the Natural Gas Act (NGA) for authorization to abandon, by conveyance to GPM Gas Corporation (GPM), seven taps serving Westar Transmission Company (Westar) and the service rendered by means thereof authorized in blanket certificate issued in Docket No. CP82-435-000, all as more fully set forth in the request on file with the Commission and open to public inspection. This filing may be viewed on the web at http://www.ferc.fed.us/online/rims.htm (call 202-208-2222 for assistance).

El Paso proposes to abandon seven taps known as the Hanslik & Emens Tap, the Anna McCollum Tap, the Paul McCollum Tap, the Howard D. Oliver Tap, the Fred Belt Tap, the Bob J. Spears Tap and the R.T. Bedwell Tap (Delivery Point Facilities). El Paso states that these facilities were required by El Paso to facilitate the sale and delivery of natural gas to Westar for resale to Energas Company, a Division of Atmos Energy Corporation (Energas), a local distribution company. El Paso further states that El Paso owns, operates and maintains the 4½-inch O.D., Fuel Line from Phillips-Seninole Plant to Riley Compressor Station (Line No. 6018), commencing in the Section 328, C.C.S.D. & R.G.N.G.R.R. Co. Block G, extending approximately 8.4 miles to the northeast, and terminating in Section 229, Waxahachie Tap R.R. Co., Block G, all in Gaines County Texas. El Paso reports that El Paso and GPM have agreed to the conveyance of line No. 6018 to GPM contingent upon El Paso's abandonment of the Delivery Point Facilities and the natural gas service they provide. El Paso further reports that by letter agreement dated October 21, 1999, Westar and Energas have consented to abandonment of the Delivery Point Facilities and GPM and Westar will provide natural gas service, pursuant to appropriate State regulatory requirements.

El Paso states that the abandonment would not cause any material change in El Paso's cost of service. El Paso continues the proposed abandonment would not result in or cause any interruption, reduction or termination of the transportation service presently rendered to the customers of the Delivery Point Facilities.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA.

David P. Boergers,
Secretary.

[FR Doc. 00-7317 Filed 3-23-00; 8:45 am]

BILLING CODE 6717-01-M